DEPARTMENT OF AGRICULTURE

Rural Utilities Service

Weather Radio Transmitter Grant Program

AGENCY: Rural Utilities Service, USDA.

ACTION: Notice.

SUMMARY: On April 4, 2001, the Rural Utilities Service (RUS) published a Notice of Funds Availability (NOFA) in the Federal Register (66 FR 17857, April 4, 2001) announcing a new grant program, and the availability of grant funds under this program, to finance the installation of new transmitters to extend the coverage of the National Oceanic and Atmospheric Administration's Weather Radio system (NOAA Weather Radio) in rural America. Included in the NOFA was a list of proposed NOAA Weather Radio transmitter sites that would be eligible for funding. On October 16, 2001, RUS published an updated listing of the proposed NOAA Weather Radio transmitter sites that would be eligible for funding (66 FR 52571).

The purpose of this notice is to provide an additional updated listing of the proposed NOAA Weather Radio transmitter sites. An applicant for a grant under this program may apply for a site included in this updated listing, in the listing published October 16, 2001, or in the original listing published April 4, 2001. RUS continues to emphasize that it strongly encourages all grant applicants to consult and coordinate with the National Weather Service prior to submitting a completed application.

Further details on the application process and eligibility are available in the NOFA in the April 4, 2001, Federal Register (66 FR 17857) or on the RUS Web site at http://www.usda.gov/rus/telecom/initiatives/weatherradio.htm.

Applications for grants will be accepted until grants totaling $5 million in appropriations have been made. A list of the approved grant applications is available on the RUS Web site at http://www.usda.gov/rus/telecom/initiatives/weatherradio.htm. RUS will update this list as the agency approves additional grants.

FOR FURTHER INFORMATION CONTACT: Roberta D. Purcell, Assistant Administrator, Telecommunications Program, Rural Utilities Service, STOP 1590, 1400 Independence Avenue, SW., Washington, DC 20250-1590, Telephone (202) 720-9554, Facsimile (202) 720-0810.

SUPPLEMENTARY INFORMATION:

Updated List

An area's need for a new NOAA Weather Radio transmitter is determined by its inherent risk of hazardous weather and the absence of adequate coverage by an existing transmitter. RUS, in consultation with the National Weather Service, has developed the attached updated list of proposed transmitter sites that will be eligible for funding under the NOFA published in the April 4, 2001, Federal Register.

RUS will continue to update its list from time to time and will publish updates in the Federal Register.

Dated: December 13, 2002.
Curtis M. Anderson,
Deputy Administrator, Acting as Administrator, Rural Utilities Service.

NWS Site Listings
State and site name | County name | FIPS | Latitude | Longitude
Alabama:
Cullman | Cullman | 01043 | 34-10-17 N | 86-50-39 W
Hytop | Jackson | 01071 | 34-54-58 N | 86-05-17 W
Arab/Guntersville | Marshall | 01095 | 34-24-04.1 N | 86-26-27 W
California:
Catalina Island (Marine)/Avalon | Los Angeles | 06037 | 33-20-34 N | 118-19-36 W
Conway Summit/Bridgeport | Mono | 06051 | 38-15-21 N | 119-13-49 W
Maine: Greenville | Pisctaquis | 23021 | 45-27-34 N | 69-35-28 W
Missouri: Prairie Home | Cooper | 29053 | 38-48-47 N | 92-35-25 W
Montana: Winnett | Petroleum | 30069 | 47-00-10 N | 108-21-05 W
North Dakota:
Wishek | Mcintosh | 38051 | 46-15-25 N | 99-33-24 W
Ft. Ransom | Ransom | 38073 | 46-31-15 N | 97-55-33 W
Oklahoma:
Grove | Delaware | 40041 | 36-35-37 N | 94-46-08 W
Woodward | Woodward | 40153 | 36-26-01 N | 99-23-24 W
Pennsylvania: Beach lake | Wayne | 42127 | 41-36-06 N | 75-09-01 W
Texas:
Van horn | Culberson | 48109 | 31-03-50 N | 104-27-23 W
Carrizo springs | Dimmit | 48127 | 28-31-18 N | 99-51-37 W
Dell City | Hudspeth | 48229 | 31-56-19 N | 105-12-03 W
Wyoming: Glendo/Windover/Wheatland | Platte | 56031 | 42-30-10 N | 105-01-32 W

[FR Doc. 02-32308 Filed 12-23-02; 8:45 am]

BILLING CODE 3410-15-P